DEPARTMENT OF COMMERCE

National Oceanic and Atmospheric Administration

National Estuarine Research Reserve System

AGENCY: Estuarine Reserves Division, Office of Ocean and Coastal Resource Management, National Ocean Service, National Oceanic and Atmospheric Administration, U.S. Department of Commerce

ACTION: Notice of Final Approval and Availability of Revised Management Plans for the following National Estuarine Research Reserves: Arraigns Bay, RI and Tijuana River, CA.

SUMMARY: Notice is hereby given that the Estuarine Reserves Division, Office of Ocean and Coastal Resource Management, National Ocean Service, National Oceanic and Atmospheric Administration (NOAA), U.S. Department of Commerce has approved the revised management plans of the Arraigns Bay, RI National Estuarine Research Reserve and the Tijuana River, CA National Estuarine Research Reserve. The Arraigns Bay, RI Reserve plan calls for an expansion to their boundary and the Tijuana River, CA Reserve plan calls for a reduction to their boundary.

The revised management plan for the Arraigns Bay, RI National Estuarine Research Reserve outlines the administrative structure; the education, training, stewardship, and research goals of the reserve; and the plans for future land acquisition and facility development to support reserve operations. The objectives described in this plan are designed to address the most critical coastal issues in Arraigns Bay such as wastewater and storm water management, coastal and watershed development, and invasive species management. Since the last approved management plan in 1998, the reserve has become fully staffed; added a coastal training program that delivers science-based information to key decision makers; and added significant monitoring of invasive species, water quality, fish and bird populations. In addition to programmatic and staffing advances, the reserve upgraded visiting research facilities, space available for education and storage, and has increased the availability of dock space for research and educational programming.

This management plan calls for a boundary expansion of 156 acres. The lands consist of one 128 acre parcel on the northern end of Prudence Island that is adjacent to current reserve property and the addition of the 28 acre Dyer Island. Dyer Island habitats include coastal brush, salt marsh, cobble beaches, and both hard and soft substrate submerged lands. The island is considered a critical bird rookery and hosts an unusual amount of macro algal diversity and rare examples of un ditched salt marsh habitat. The 128 acre Ballard Property on Prudence Island consists of forested land with early succession al shrub land and grassland communities as well as an important freshwater creek and the associated wetlands. The Dyer Island property will provide opportunities for research and passive recreation while the easily accessed Prudence Island parcel will be appropriate for education, recreation, and upland research purposes. This plan can be accessed at http://www.nbnerr.org or nerrs.noaa.gov.

The revised management plan for the Tijuana River, CA National Estuarine Research Reserve outlines a framework of overarching goals and program specific objectives that will guide the education, training, stewardship, and research programs of the reserve; updates the reserve boundary; proposes criteria for boundary expansion activities through acquisition and/or mitigation; as well as outlines plans for facility use and development to support reserve operations. The goals described in this plan are designed to provide a framework that supports program integration for collaborative management in a highly urbanized bi-national watershed.

Since the last approved management plan in 2000, the reserve has become fully staffed; added a coastal training program that delivers science-based information to key decision makers; developed a robust volunteer program that provides broad support to Reserve programs; added a bi-nationally focused Watershed Program; completed habitat restoration projects to improve estuary function; improved management of sediment delivery to the estuary; and constructed facilities to support essential functions of the reserve including interpretive structures, staff offices, and an on-site laboratory.

This management plan amends the boundary of the reserve to be 2,293 acres, 238 acres less, in part as a result of excluding the Border Infrastructure System completed since the last approved management plan. This plan can be accessed at trnerr.org/visitors_center.html or nerrs.noaa.gov.

FOR FURTHER INFORMATION CONTACT: Alison Krepp at (301) 563-7105 regarding the Tijuana River CA, National Estuarine Research Reserve and Cory Riley at (603) 862-2813 regarding the Arraigns Bay RI, National Estuarine Research Reserve or Laurie McGilvray at (301) 563-1158 of NOAA's National Ocean Service, Estuarine Reserves Division, 1305 East-West Highway, N/ORM5, 10th floor, Silver Spring, MD 20910.

Dated: September 21, 2010.
Donna Witting,
Acting Director, Office of Ocean and Coastal Resource Management, National Oceanic and Atmospheric Administration.

[FR Doc. 2010-24341 Filed 9-27-10; 8:45 am]

BILLING CODE 3510-08-P